DEPARTMENT OF COMMERCE

National Institute of Standards and Technology

RIN 0693-AB56

[Docket No. 050825229-5308-02]

Announcing Approval of Federal Information Processing Standard (FIPS) Publication 201-1, Standard for Personal Identity Verification of Federal Employees and Contractors

AGENCY: National Institute of Standards and Technology (NIST), Commerce.

ACTION: Notice.

SUMMARY: This notice announces the Secretary of Commerce's approval of Federal Information Processing Standard (FIPS) Publication 201-1, Standard for Personal Identity Verification of Federal Employees and Contractors. The changes to Section 2.2, PIV Identify Proofing and Registration Requirements, Section 4.3, Cryptographic Specifications, Section 5.2, PIV Identity Proofing and Registration Requirements, and to Section 5.3.1, PIV Card Issuance, clarify the identity proofing and registration process that departments and agencies should follow when issuing identity credentials. These changes are needed to make FIPS 201-1 consistent with the Memorandum for All Departments and Agencies (M-05-24), issued by the Office of Management and Budget on August 5, 2005, Implementation of Homeland Security Presidential Directive (HSPD) 12—Policy for a Common Identification Standard for Federal Employees and Contractors.

DATES: The approved changes are effective as of March 31, 2006.

ADDRESSES: The approved changes to FIPS Publication 201-1 are available electronically from the NIST Web site at: http://csrc.nist.gov/piv-program/. Comments that were received on the proposed changes will also be published electronically at http://csrc.nist.gov/piv-program/.

FOR FURTHER INFORMATION CONTACT: W. Curtis Barker, (301) 975-8443, National Institute of Standards and Technology, 100 Bureau Drive, STOP 8930, Gaithersburg, MD 20899-8930, e-mail: wbarker@nist.gov.

Information about FIPS 201-1 and the PIV program is available on the NIST Web pages: http://csrc.nist.gov/piv-program/.

SUPPLEMENTARY INFORMATION: A Federal Register notice (70 FR 17975-78) on April 8, 2005, announced that the Secretary of Commerce had approved FIPS Publication 201, Standard for Personal Identity Verification of Federal Employees and Contractors. HSPD 12, Policy for a Common Identification Standard for Federal Employees and Contractors, dated August 27, 2004, directed the Secretary of Commerce to promulgate, by February 27, 2005, a Government-wide standard for secure and reliable forms of identification to be issued to Federal government employees and contractors (including contractor employees).

FIPS 201 was effective on February 25, 2005, and was made compulsory and binding on Federal agencies for use in issuing a secure and reliable form of personal identification to employees and contractors. The standard does not apply to personal identification associated with national security systems as defined by 44 U.S.C. 3542(b)(2).

A notice was published in the Federal Register (70 FR 53346-47) on September 8, 2005, announcing the proposed changes to FIPS 201. The primary goal for the changes are to make FIPS 201-1 consistent with the Memorandum for All Departments and Agencies (M-05-24), issued by the Office of Management and Budget on August 5, 2005, Implementation of Homeland Security Presidential Directive (HSPD) 12—Policy for a Common Identification Standard for Federal Employees and Contractors.

The Federal Register notice solicited comments on the draft standard from the public, research communities, manufacturers, voluntary standards organizations, and Federal, State, and local government organizations. In addition to being published in the Federal Register, the notice was posted on the NIST Web pages. Information was provided about the submission of electronic comments and an electronic template for the submission of comments was made available.

Comments, responses, and questions were received from private sector organizations, groups, or individuals, and Federal government organizations. These comments have all been made available by NIST at http://csrc.nist.gov/piv-program/. Following is an analysis of the comments received, including the interests, concerns, recommendations, and issues considered in the development of FIPS 201-1.

Comment: The requirement to include electronically distinguishable NACI indicator in the identity credential should apply to PIV-II only.

Response: NIST agrees that the NACI indicator does not apply to PIV-1. Moved this requirement to Section 5.2 of FIPS 201-1.

Comment: The exact nature of the electronically distinguishable feature must be defined to ensure adequate interoperability.

Response: NIST specified implementation of the NACI Interim Indicator in the PIV Authentication certificate and updated Section 4.3, Section 5.4.2.1, and the PIV Certificate definition Appendix. Specifically, the Interim Indicator shall be implemented as a non-critical private extension in the PIV Authentication certificate.

Comment: Agencies do not support 5-day waiting period for the completion of the NAC. Agencies strongly disagree with the requirement for the NAC completion prior to an employee or contractor receiving a credential or access to federally controlled facilities or logical access to federally controlled information system. Moreover, agencies believed that the NAC results will not be received within five days in a majority of the cases. In that regard, the agency leadership must delay the hiring process for five additional days with no concomitant security benefit.

Response: NIST removed specific waiting period and NAC without written inquiries as a qualifier in Section 2.2 of FIPS 201-1. The five-day waiting period did introduce artificial delay in the routine card issuance. As a result, pending receipt of the results of the NACI, an agency may issue an identity credential based on the FBI National Criminal History Check (fingerprint check).

Comment: Agencies do not support the inclusion of a NACI indicator within the identity credential. Agencies believe this requirement will be costly to implement because the requirement would require facilities to alter or replace the identity credential when the NAC is complete. They recommend further analysis regarding the intended use, CONOPS, and benefits for this distinguishable element within the identity credential is required before their acceptance.

Response: This requirement is imposed to be consistent with the OMB memorandum M-05-24. The NACI indicator relays the rigor of identity proofing completed on the PIV cardholder when the card was issued. The relying parties, such as federal agencies, may require NACI completion to allow access to their resources. The NACI indicator will enable agencies to make an informed decision about the cardholders binding to the identity credentials.

Authority: In accordance with the Information Technology Management Reform Act of 1996 (Pub. L. 104-106) and the Federal Information Security Management Act (FISMA) of 2002 (Pub. L. 107-347), the Secretary of Commerce is authorized to approve Federal Information Processing Standards (FIPS). Homeland Security Presidential Directive (HSPD) 12, Policy for a Common Identification Standard for Federal Employees and Contractors, dated August 27, 2004, directed the Secretary of Commerce to promulgate, by February 27, 2005, a Government-wide standard for secure and reliable forms of identification to be issued to Federal government employees and contractors.

E.O. 12866: This notice has been determined to be significant for the purposes of E.O. 12866.

Dated: March 23, 2006.
William Jeffrey,
Director.

[FR Doc. E6-4722 Filed 3-30-06; 8:45 am]

BILLING CODE 3510-CN-P